DEPARTMENT OF COMMERCE

National Oceanic and Atmospheric Administration

50 CFR Part 679

[Docket No. 240612-0158; RTID 0648-XD877]

Fisheries of the Exclusive Economic Zone off Alaska; Cook Inlet; Final 2024 Harvest Specifications for Salmon

AGENCY: National Marine Fisheries Service (NMFS), National Oceanic and Atmospheric Administration (NOAA), Commerce.

ACTION: Final rule; harvest specifications.

SUMMARY: NMFS announces the final 2024 harvest specifications for the salmon fishery of the Cook Inlet exclusive economic zone (EEZ) Area. This action is necessary to establish harvest limits for salmon during the 2024 fishing year and to accomplish the goals and objectives of the Fishery Management Plan for Salmon Fisheries in the EEZ off Alaska (Salmon FMP). The intended effect of this action is to conserve and manage the salmon resources in Cook Inlet EEZ Area in accordance with the Magnuson-Stevens Fishery Conservation and Management Act (Magnuson-Stevens Act).

DATES: Harvest specifications and closures are effective at 0700 hours, Alaska local time (A.l.t.), June 17, 2024, until the effective date of the final 2025 harvest specifications for the Cook Inlet EEZ Area.

ADDRESSES: A plain language summary of this rule is available at https://www.regulations.gov/docket/NOAA-NMFS-2024-0028.

Electronic copies of the Environmental Assessment (EA)/Regulatory Impact Review/Social Impact Review (collectively, the Analysis) for amendment 16 to the Salmon FMP are available from https://www.regulations.gov or from the NMFS Alaska Region website at https://www.fisheries.noaa.gov/action/amendment-16-fmp-salmon-fisheries-alaska. The final 2024 Stock Assessment and Fishery Evaluation (SAFE) report for Cook Inlet salmon is available on the Alaska Region website at https://www.fisheries.noaa.gov/alaska/population-assessments/alaska-stock-assessments.

FOR FURTHER INFORMATION CONTACT: Adam Zaleski, 907-586-7228, adam.zaleski@noaa.gov.

SUPPLEMENTARY INFORMATION:

Background

NMFS prepared the Salmon FMP under the authority of the Magnuson-Stevens Act (16 U.S.C. 1801 et seq.). Regulations governing U.S. fisheries and implementing the Salmon FMP appear at 50 CFR parts 600 and 679.

Section 679.118(b)(2) requires that NMFS consider public comment on the proposed harvest specifications and publish the final harvest specifications in the Federal Register. The proposed 2024 harvest specifications for the Cook Inlet EEZ Area were published in the Federal Register on April 12, 2024 (89 FR 25857). Comments were invited and accepted through May 13, 2024. NMFS received 21 letters and 19 distinct comments during the public comment period for the proposed 2024 Cook Inlet EEZ Area harvest specifications. NMFS responses are addressed in the Response to Comments section below. After considering public comments submitted for the proposed rule (89 FR 25857, April 12, 2024), NMFS is implementing the final 2024 harvest specifications for the salmon fishery of the Cook Inlet EEZ Area consistent with the Scientific and Statistical Committee's (SSC) fishing level recommendations and that account for the significant management uncertainty associated with this new fishery.

Final 2024 Overfishing Levels (OFL), Acceptable Biological Catch (ABC), and Total Allowable Catch (TAC) Specifications

The final 2024 SAFE report contains a review of the latest scientific analyses and estimates of biological parameters for five salmon species, and because harvest specifications must be in place before the fishery begins, the SAFE report relies on forecasts of the coming year's salmon runs. The 2024 forecasted returns, and, consequently, the OFLs, ABCs, and TACs were developed by NMFS and reviewed by the SSC. Status determination criteria (SDC) and harvest specifications are calculated in terms of potential yield for the Cook Inlet EEZ Area. The potential yield is the total forecasted run size minus the number of salmon required to achieve spawning escapement targets and the estimated mortality from other sources including in other fisheries. For the final 2024 SAFE report, NMFS developed suitable alternative forecasts based on historical data for some stocks and used fishery catch in prior years for other stocks and stock complexes to inform the 2024 harvest specifications.

Amendment 16 to the Salmon FMP specifies the tiers used to calculate OFLs and ABCs. The tiers applicable to a particular stock or stock complex are determined by the level of reliable information available. This information is categorized into a successive series of three tiers to define OFLs and ABCs, with Tier 1 representing the highest level of information quality available and Tier 3 representing the lowest level of information quality available. NMFS used this tier structure to calculate OFLs and ABCs for each salmon stock or stock complex (a stock complex is an aggregate of multiple stocks of a species).

The SSC, Advisory Panel (AP), and North Pacific Fishery Management Council (Council) reviewed NMFS's preliminary 2024 SAFE report for the Cook Inlet EEZ Area salmon fishery in February 2024. From these data and analyses, the SSC recommended an OFL and ABC for each salmon stock and stock complex. The SSC further recommended changing the buffers that reduce ABC from the OFL for aggregate Chinook, aggregate pink, and aggregate chum salmon to be sufficiently precautionary. For each stock and stock complex, the SSC made recommendations regarding OFLs and ABCs and the AP recommended TACs, but after NMFS's consultation with the Council, the Council took no action to recommend Cook Inlet EEZ Area salmon harvest specifications. NMFS is implementing the OFLs and ABCs recommended by the SSC and TACs consistent with the SSC's fishing level recommendations and that account for the significant management uncertainty associated with this new fishery. In making its motion at the February Council meeting, NMFS discussed the sources of scientific and management uncertainty in detail.

Following the February SSC and Council meeting, NMFS updated the 2024 SAFE report to include SSC recommendations (see ADDRESSES). The final specifications are based on the final 2024 SAFE report, which represents the best scientific information available on the biological condition of salmon stocks in Cook Inlet and other social and economic considerations.

The recommended specifications of OFL, ABC, and TAC are consistent with the harvest strategy outlined in the Salmon FMP, the biological condition of salmon as described in the final 2024 SAFE, SSC recommendations, and with National Standard 1. ABC is less than or equal to the OFL for each stock and stock complex. TACs are established for species rather than stocks or stock complexes because it is not possible to differentiate among stocks of the same species through catch accounting during the fishing season. TACs for each species are set less than the aggregate ABC for each component stock and stock complex, and these TACs account for the assumed contribution of each stock or stock complex to total catch to ensure ABC is not exceeded for any stock and stock complex.

NMFS is publishing the final 2024 harvest specifications after: (1) considering comments received within the comment period (see DATES); (2) considering information presented in the Analysis (see ADDRESSES); and (3) considering information presented in the final 2024 SAFE report prepared for the 2024 Cook Inlet EEZ Area salmon fisheries (see 50 CFR 679.118(b)(2)).

The final 2024 OFLs, ABCs, and TACs are based on the best scientific information available. The SAFE report was subject to peer review by the SSC, which recommended ABCs in table 1, as is consistent with §§ 600.310(f)(3) and 600.315(c)-(d). The TACs are adjusted to account for other relevant biological and social and economic considerations presented in the resource assessment documents (i.e., the 2024 SAFE report) (see 50 CFR 679.118(a)(2)), including to account for management uncertainty for this new fishery, the estimated contribution of each stock or stock complex to total catch of a species, and to prevent catch in the Cook Inlet EEZ Area from exceeding the ABC for any stock or stock complex.

Table 1—Final 2024 Cook Inlet EEZ Area Salmon OFLs, ABCs, and TACs in Numbers of Fish
Stock ¹ | OFL | ABC | TAC
Kenai River Late-Run sockeye salmon | 902,000 | 431,100 | 492,100
Kasilof River sockeye salmon | 541,100 | 375,500 |
Aggregate other sockeye salmon | 887,500 | 177,500 |
Aggregate Chinook salmon | 2,700 | 270 | 240
Aggregate coho salmon | 357,700 | 35,800 | 25,000
Aggregate chum salmon | 441,700 | 110,400 | 99,400
Aggregate pink salmon | 270,400 | 135,200 | 121,700
¹The TAC for sockeye salmon is combined for Kenai River Late-Run, Kasilof River, and aggregate other sockeye salmon because of the mixed stock fishery.

Response to Comments

NMFS published its proposed harvest specifications on April 12, 2024 (89 FR 25857) and accepted public comment for 31 days, closing on May 13, 2024. NMFS received 21 letters with 19 distinct comments during the public comment. The comments were from individuals, environmental groups, local governments, commercial fishing organizations, tribes and tribal members, individual drift gillnet fishermen, and the United Cook Inlet Drift Association.

Scope of the Harvest Specifications

Comment 1: NMFS needs to revise the Cook Inlet EEZ Area salmon fishery management measures implemented under amendment 16, including the use of a TAC, fishing dates and times, net length, recordkeeping and reporting, vessel monitoring systems, authority to issue Emergency Orders, refusal to honor Commercial Fisheries Entry Commission (CFEC) limited entry permits, research, a tribal fishery, and tribal engagement on amendment 16.

Response: These comments address topics outside the scope of the harvest specifications. Responses to any of these comments that were submitted regarding amendment 16 were addressed in the Comments and Responses section of the amendment 16 final rule (starting on page 34724 at 89 FR 34718, April 30, 2024). The comment period for amendment 16 ended on December 18, 2023. The rulemaking for the proposed and final harvest specifications sets the OFLs, ABCs, and TACs for the salmon fisheries of the Cook Inlet EEZ Area, and this action does not change any of the fishery management policies adopted under amendment 16.

Many of these comments asserted that the use of a TAC is not appropriate for salmon. As stated in the previous paragraph, the use of TACs was established by amendment 16 and its implementing regulations. These harvest specifications establish the amount of the TACs for salmon during the 2024 fishing year to accomplish the goals and objectives of the Salmon FMP. Therefore, any comments related to the use of a TAC are outside the scope of the harvest specifications.

Also, NMFS will monitor the fishery daily and use inseason management measures and adjust the TAC, if practicable and supported by the best scientific information available, to ensure that catch amounts are appropriate for the realized run strength. NMFS determined the TACs for the Cook Inlet EEZ Area are suitably precautionary to avoid overfishing.

Total Allowable Catch (TAC) Amounts

Comment 2: The TACs proposed by NMFS for the Cook Inlet EEZ Area are set too low and will cause foregone harvest and over-escapement. Additionally, the 2024 forecast from State of Alaska Department of Fish and Game (ADF&G) is for 3.72 million sockeye, minus 1 million for the dip net/recreational fishery, which would leave about 2.7 million sockeye theoretically available for commercial harvest. There is no east side set net fishery again in 2024. There should be 2.7 million sockeye available for commercial users, only drift gillnet gear type is authorized for those commercial users, and 65 percent of the catch occurs in the EEZ, so the TAC would need to be set at least 1.7 million sockeye. For sockeye salmon, the TAC of 492,100 sockeye is too low as a result of buffers that are disproportionately conservative relative to other salmon stocks given their high abundance.

Response: NMFS disagrees that the 2024 Cook Inlet EEZ Area TAC of 492,100 sockeye salmon is too low and disproportionately conservative. NMFS also disagrees that the TAC should be 1.7 million sockeye salmon. The commenter's proposed TAC of 1.7 million sockeye salmon relies on incorrect assumptions of historical EEZ harvests, is not based on the preseason forecast method described in the final 2024 SAFE report, does not account for scientific uncertainty in reducing the pre-season OFL to the resulting ABCs recommended by the SSC, and does not account for management uncertainty in setting the TAC less than the combined ABCs.

NMFS disagrees with the commenter's characterization of the methodology used in the Federal harvest specifications for setting OFLs, ABCs, and TACs. As described in section 4.5.1.2.3 of the Analysis, the best available estimates of historical harvests indicate that, contrary to the commenter's contention, 47 percent (not 65 percent) of the Cook Inlet drift gillnet harvest have occurred in EEZ waters. Thus, the commenter overstates the proportions of historical harvests that are estimated to have occurred in Cook Inlet EEZ Area and, as a result, overestimated the number of sockeye salmon available for harvest by the drift gillnet fleet as described in the final 2024 SAFE report and determined by the Federal TAC setting process. In addition, the ADF&G preseason harvest estimate of 3.72 million sockeye salmon (across all fisheries) that is referenced by the commenter—which the commenter alleges should leave 2.7 million sockeye available for commercial harvest—was not available in time to be included in the final 2024 SAFE report for review by the SSC at the February 2024 Council meeting. Further, even assuming these numbers were accurate, the 2.7 million sockeye the commenter argues should be available for commercial harvest represents something akin to an OFL (i.e., the maximum number of fish theoretically available for harvest before accounting for scientific and management uncertainty) and does not represent a scientifically-defensible ceiling for total commercial harvest. The combined 2024 OFL for sockeye under these harvest specifications is 2.33 million fish prior to accounting for scientific and management uncertainty, and the OFLs were based on the best scientific information available in time for SSC review. And as described in the final 2024 SAFE report, historical harvests, not total run size was used to set harvest specifications for the Tier 3 aggregate other sockeye salmon stock complex. Therefore, the combined preseason harvest estimate provided by the commenter, in addition to being erroneously inflated for the reasons described previously, is not directly comparable to estimates of total run size and OFL described in the final 2024 SAFE report.

As described in section 5 of the final 2024 SAFE report, for Tier 1 stocks of sockeye salmon (i.e., Kenai and Kasilof river stocks), preseason total run size forecasts, which were based on the best scientific information available in time for SSC consideration, were reduced by the SSC-recommended spawning escapements and likely ADF&G harvests to result in OFLs of 901,932 sockeye salmon for the Kenai River and 541,084 sockeye salmon for the Kasilof River (1,443,016 fish combined for Tier 1 stocks). For the Tier 3 aggregate other stock, the SSC recommended an OFL of 887,500 fish by relying on estimated maximum historical annual catch.

After defining OFL for each stock or stock complex, the SSC recommends ABCs consistent with section 302(g) of the Magnuson-Stevens Act. An ABC is “a level of a stock or stock complex's annual catch, which is based on an ABC control rule that accounts for the scientific uncertainty in the estimate of [OFL], any other scientific uncertainty, and the Council's risk policy” (50 CFR 600.310(f)(1)(ii)). After considering scientific uncertainty in the calculation of OFLs for the Tier 1 stocks, including the historical accuracy of the estimates of run size and ADF&G harvests, the SSC recommended ABCs of 431,123 sockeye salmon for the Kenai River and 375,512 sockeye salmon for the Kasilof River (806,635 combined ABC for Tier 1 stocks). As described in section 5 of the final 2024 SAFE report, for the data-poor Tier 3 aggregate other sockeye salmon stock complex, the SSC recommended a higher buffer to account for the greater scientific uncertainty and significant data gaps for this stock complex, and ultimately recommended an ABC of 177,493 sockeye salmon. Thus, even prior to NMFS considering management uncertainty in setting a TAC for sockeye salmon, the sum of the 2024 SSC-recommended ABCs for sockeye salmon in the Cook Inlet EEZ Area (984,128 sockeye salmon) is considerably lower than the TAC recommended by the commenter (1.7 million sockeye salmon).

TAC is reduced from ABC to account for management uncertainty, which includes “[l]ate catch reporting; misreporting; underreporting of catches; lack of sufficient inseason management, including inseason closure authority; or other factors.” (50 CFR 600.310(f)(1)(v); see also 50 CFR 600.310(g)(4)). NMFS set the combined sockeye salmon TAC below the SSC's recommended ABCs to account for management uncertainty for this new fishery and to prevent catch in the EEZ from exceeding the annual catch limit, consistent with the Magnuson-Stevens Act and National Standard 1 guidelines (see 50 CFR 600.310(g)(4), providing that TACs should account “for management uncertainty in controlling the catch at or below the [annual catch limit],” which is equal to ABC for this fishery). In particular, NMFS considered the uncertainty associated with the efficacy and timeliness of catch reporting in a new fishery and the uncertainty associated with managing a mixed stock fishery in which certain weak stocks are at risk of missing their spawning escapement goals. At present, weak stocks' relative contribution to total EEZ harvest remains an estimate. The management uncertainty associated with the achievement of escapement targets for weak stocks is a separate consideration from the scientific uncertainty that was explicitly addressed in the SSC-recommended buffers that reduced the ABC from the OFL (i.e., uncertainty of total run size estimate and uncertainty of ADF&G harvests).

For the Tier 3 aggregate other sockeye salmon stock complex, NMFS considered the management uncertainty associated with the achievement of the escapement goals for the indicator stocks in the stock complex. For that stock complex, NMFS determined that a 50 percent buffer of the ABC would result in harvests of the stock complex that approximate those estimated to have occurred during recent years (e.g., compared with recent 5-year and 10-year averages) and, as such, that this level of harvest would generally also allow the achievement of spawning escapements to the indicator systems of the stock complex. However, as some indicator systems for this stock have not always achieved their spawning escapement targets during recent years, NMFS was justified in a applying a buffer that did not result in a large increase in the amount of harvest for this stock in the EEZ, especially during the first year of the fishery. Due to the mixed-stock nature of the Cook Inlet EEZ Area fishery, the 50 percent buffer was applied to all stocks of sockeye salmon because the fleet cannot target any of the stocks in isolation, and NMFS must manage to ensure no harm is done to the stock complex that is most vulnerable to missing its escapement goals. NMFS cannot differentiate among stocks of the same species inseason, and NMFS is relying on estimates of relative sockeye stock contributions to total harvest in setting a combined TAC. NMFS must therefore account for considerable management uncertainty, justifying a 50 percent buffer to ensure no stock exceeds its ACL (equal to ABC). The combined TAC of 492,100 sockeye salmon is somewhat higher than recent levels of sockeye harvest in the EEZ (recent 10-year average estimated EEZ harvest of approximately 397,393 sockeye salmon).

Fishing in the Cook Inlet EEZ Area targets mixed stocks of salmon that have varying levels of abundance and surplus yield. Conservation measures to prevent overfishing on salmon stocks that are less abundant and/or for which there is less available information to assess run strength are a primary driver of foregone yield to the more abundant stocks. Allowing a higher TAC to harvest surplus yield for more abundant stocks in the EEZ would create a significant risk of not meeting escapement goals for less abundant stocks and reduce or eliminate the harvestable surplus of these stocks available to all other salmon users. The 2024 TACs are appropriate for a new Cook Inlet EEZ Area fishery and will prevent harvest from exceeding the ABC, as required by the Magnuson-Stevens Act and National Standard guidelines (50 CFR 600.310(f)(1), (2), (3)).

The Magnuson-Stevens Act has no prohibition against foregone harvest, explicitly mandates that NMFS prevent overfishing, and states that foregone harvest is necessary when additional harvest of an abundant stock would also result in harvest of species for which there is a conservation concern. Therefore, in determining harvest limits for a mixed stock fishery, NMFS cannot look at the more abundant stocks in isolation. Crucially, the commercial drift gillnet fleet has no means of targeting only one specific stock of salmon while fishing, so harvest limits must account for the assumed contribution of each stock to total harvest. Additionally, harvest limits are appropriately limited to EEZ waters (where NMFS has management authority) and defined so as to identify the amount of cumulative harvest of all co-occurring EEZ stocks that both provides harvest opportunity to the greatest extent practicable while preventing overfishing (supported by the best available scientific information). This is consistent with NMFS's approach to salmon management on the West Coast where “weak stock” management is required to avoid exceeding limits for the stocks with the most constraining limits.

In addition, Federal regulations for setting salmon TACs provide that the Council and NMFS should consider (1) the biological condition of salmon stocks and (2) social and economic considerations (50 CFR 679.118(a)(2)). For these harvest specifications, NMFS fully evaluated the biological condition of salmon stocks and social and economic considerations in specifying TACs. This information is extensively described in Section 2.5.2.2 of the Analysis, with additional relevant biological information on each stock provided in the Stock Status Summaries section of the 2024 SAFE report (Tier determination and resulting OFL and ABC determination for 2024) and the sources NMFS references within the SAFE Report.

Each year when setting harvest specifications, NMFS will evaluate the potential harvest available in the Cook Inlet EEZ Area and will work to provide harvest opportunities to the extent possible, subject to the constraints of scientific and management uncertainty. As the information available to NMFS to manage salmon fishing in the Cook Inlet EEZ Area improves through implementation of this new Federal fishery management regime, it is possible that harvest levels could increase in the future.

At this time there is not available information for NMFS to manage specific sockeye salmon stocks inseason and therefore NMFS will manage all sockeye salmon stocks inseason with a single TAC that includes harvests from the Kasilof, Kenai, and aggregate other sockeye salmon stocks. NMFS sets the combined sockeye salmon TAC after considering the best scientific information available on the relative contribution of each stock to the total catch. While there are currently no State of Alaska stocks of concern for sockeye salmon in Upper Cook Inlet, there are significant data gaps. For example, the lack of timely escapement data for the smaller spawning systems that make up the aggregate other sockeye salmon stocks—for which there is significant harvest—necessitates a precautionary approach to managing the fishery given the management and data limitations described above. These considerations are described throughout sections 2.5 and 3.1 of the Analysis. Preventing overfishing on all stocks within the fishery is consistent with NMFS's mandate under the Magnuson-Stevens Act and National Standard 1.

Comment 3: The TAC for the aggregate other sockeye salmon stock complex may have a larger impact on the weaker sockeye stocks and is not conservative enough.

Response: NMFS set a combined TAC for all sockeye salmon in the Cook Inlet EEZ Area, including for the stock complex it refers to in the harvest specifications as “aggregate other sockeye salmon.” Drift gillnet fishing in the Cook Inlet EEZ Area harvests multiple sockeye salmon stocks originating from systems throughout Cook Inlet. There is no information currently available for NMFS managers to utilize to determine genetic stock composition during the fishing season (i.e., how many sockeye from each system are caught each day). Therefore, NMFS must manage using a combined sockeye salmon stock TAC as a conservation measure to prevent overfishing on less abundant co-occurring salmon stocks. However, NMFS did use the historical genetic catch composition data that is available post-season to set TACs that avoid exceeding the SSC's recommendation for each component stock. Given this information, NMFS does not expect that the ABC for “aggregate other sockeye salmon” (which includes the weakest sockeye salmon stocks in Cook Inlet) will be exceeded if the combined sockeye salmon TAC is fully harvested. The TAC amount includes an additional reduction between ABC and TAC to account for management uncertainty (see the response to comment 2 for more detail).

Comment 4: The proposed TAC of 25,000 coho salmon is appropriate based on the available, although extremely limited, information.

Response: NMFS agrees. Compared to other stocks, the 2024 SAFE report supports, and the SSC recommended, a relatively conservative buffer for aggregate coho salmon during 2024 due to the lack of information necessary to estimate total run size and associated status determination criteria for the aggregate coho stock complex, and genetic evidence showing that significant proportions of the coho salmon harvested by the drift gillnet fleet are likely bound for Northern Cook Inlet drainages where indicator stocks have not consistently achieved spawning escapement goals during recent years. Therefore, in order to help ensure that spawning escapement goals are achieved, and allow for at least some harvestable surplus for other users, NMFS selected a sufficiently conservative coho salmon TAC.

In addition, the 2024 SAFE report also considered potential concerns about the salmon prey available to endangered Cook Inlet beluga whales. This endangered species occupies Northern Cook Inlet, including the far reaches of the Inlet when coho salmon runs are present.

Comment 5: NMFS should reduce the TAC amounts in the 2024 harvest specifications based on recommendations from the Council's AP, the full Council, and public comment.

Response: NMFS acknowledges the support for the TAC amounts based on the OFLs and ABCs recommended by the SSC and the TACs recommended by the AP. However, the Council ultimately did not recommend any harvest specifications. NMFS did consider all feedback received at the February 2024 Council meeting when establishing these harvest specifications.

Comment 6: NMFS violates the National Environmental Policy Act (NEPA) by failing to consider alternatives other than its chosen TAC.

Response: NMFS disagrees. The Analysis analyzed the harvest specifications process and expected outcomes, including the likely TAC amounts which were expected to be near existing harvest levels, as well as alternatives to these TACs. These harvest specifications are consistent with that analysis. TACs are the result of a scientifically driven process following the National Standard 1 guidelines for determining OFL and ABC. TACs are then set below the OFL and ABC to ensure that the ABC and ACL are not exceeded after accounting for management uncertainty, as well as other social, economic, and ecological factors (50 CFR 600.310(g)(4), 679.118(a)(2)). Prior to selecting TAC amounts for each Cook Inlet salmon stock or stock complex, NMFS considered values between zero and ABC, as well as the specific proposal provided by the Council's AP at the February 2024 Council meeting.

NMFS also considered alternative methods to establish the SDC in the Analysis, which are the measurable and objective factors (e.g., maximum fishing mortality threshold, OFL, and minimum stock size threshold) that NMFS uses to determine if overfishing has occurred, or if the stock or stock complex is overfished. The harvest specifications implement the preferred alternative from the Analysis (see section 2.5: Alternative 3, Federal management). Further, NMFS followed the harvest specifications process analyzed as an alternative in the Analysis by providing a draft SAFE report to the SSC for their consideration in establishing the SDC. The SSC recommended ABCs for each stock or stock complex and, after the Council failed to take action in recommending TACs, NMFS proposed TACs in consideration of public testimony and based on the tier system described in both the Analysis (section 2.5.2.2) and the final 2024 SAFE report. NMFS is publishing these final harvest specifications after consideration of public comment and consistent with the process established under amendment 16 and implementing regulation (50 CFR 679.118(a)(b)). The responses to comments 2, 11, and 12 include discussion of the tier system used to establish TACs in further detail.

Comment 7: The TAC is much lower than the usual harvest in the Cook Inlet EEZ Area and will make the fishery economically unviable. The projected TAC is so low that it could be caught in just a few openers.

Response: NMFS disagrees that the TAC amounts in these harvest specifications are much lower than the usual harvest in the Cook Inlet EEZ Area and will make fishing economically inviable. The salmon TACs NMFS approves in these harvest specifications are commensurate with, if not slightly higher than, the recent 10-year average of EEZ harvests. For example, the 10-year average harvest of sockeye salmon in the EEZ is estimated to be approximately 397,393 fish while the proposed EEZ TAC of sockeye salmon is 492,100 fish. The appendices in the 2024 SAFE detail total catch, estimated EEZ catch, and cumulative EEZ catch for each stock or aggregate stock.

Further, given the ADF&G's current conservation measures for depressed stocks of Chinook and coho salmon, it is expected that continued State of Alaska management of commercial fishing in the Cook Inlet EEZ would have resulted in similar or lower catch amounts in the EEZ area for this fishing year in order to meet escapement goals and provide some harvestable surplus to the greatest range of users. Thus, compared to baseline conditions—i.e., salmon management in the Cook Inlet EEZ by the State of Alaska—these EEZ harvest limits are not expected to have adverse economic impacts. Further, NMFS cannot authorize harvests above these limits without a serious risk that weaker stocks would miss their escapement goals, possibly resulting in overfishing, as well as serious economic impacts to other users also dependent on these salmon stocks after they have moved through the Cook Inlet EEZ Area.

Comment 8: NMFS is interpreting “conservative management” as solely based on a TAC rather than recognizing the importance of harvest rates in conjunction with net length, run timing, and the Conservation Corridor as components of conservative management.

Response: NMFS disagrees. As described in the response to comments 3 and 7, the TACs were established with conservative buffers accounting for scientific and management uncertainty in the context of the management measures implemented by amendment 16 in Federal regulations. NMFS expects that the TACs implemented in these harvest specifications are attainable, while also protective of weaker stocks, based on the best scientific available information (e.g., run timing) and based on expected effort under the regulations established by amendment 16 (e.g., net size). Other management measures and the rationale for selecting them is described in the final rule implementing amendment 16, but are outside the scope of this rule.

Comment 9: The harvest specifications violate the Magnuson-Stevens Act by providing the commercial fishing sector with an insufficient percentage of total available salmon for harvest in the Cook Inlet EEZ.

Response: NMFS disagrees. The Magnuson-Stevens Act does not require that NMFS allocate a specific percentage of the harvest to the commercial fishing sector. Nonetheless, NMFS expects that over 99.9 percent of the salmon harvested in Cook Inlet EEZ Area will be harvested by the commercial salmon fishery sector, consistent with historical trends and all applicable Magnuson-Stevens Act requirements. Further, the TACs will provide fishermen an opportunity to harvest salmon commensurate with, if not slightly higher than, the recent 10-year average of EEZ harvests, as explained in the response to comment 7.

Stock Assessment and Fishery Evaluation (SAFE)

Comment 10: NMFS should work with ADF&G to develop indicator stocks to determine strength in the Susitna River drainages.

Response: NMFS acknowledges that there are information gaps for management of Cook Inlet salmon stocks, however this rule is based on the best scientific information currently available, consistent with the Magnuson-Stevens Act (16 U.S.C. 1851(a)(2)). As with all other federally-managed fisheries, NMFS will work with stakeholders, other government agencies, Alaska Native Tribes, and academic institutions to improve the level of scientific information available to manage this fishery over time to the extent practicable.

Comment 11: Not adding in the number of fish counted over the upper escapement goal which entered the river each year into any data formula for a TAC is an unacceptable oversight.

Response: The comment does not describe or recommend a formula by which escapements beyond the upper bound of the escapement goal should be considered in setting a TAC, whether such a count should be used to re-evaluate a TAC inseason, or whether the commenter wishes for such a count to be applied to TAC setting in future years. As described in the final 2024 SAFE report, for Tier 1 stocks, the SAFE report does consider the total run size, including harvests and escapement, of each salmon stock in determining the OFL and the SSC's recommended ABC, which formed the basis of TAC in the proposed harvest specifications. In setting harvest limits for the Cook Inlet EEZ Area, NMFS considers escapement in prior years in the stock assessment, which informs the SAFE's forecast of total run size for the current fishing year, and the expected impact of each salmon fishery. This addresses the expected impact of escapement values, including those in excess of escapement goals, on future run sizes, as well the impact of management on fishery harvests of each salmon stock. While this approach does indicate that some stocks may be able to support additional harvest, NMFS must also consider the uncertainty associated with all of this information and account for weaker stocks that would also be harvested concurrently. Data on total returns, harvest, and escapement for the 2024 fishing season will be considered in the 2025 harvest specifications to improve management and utilization, subject to the constraints of uncertainty as well as ensuring a harvestable surplus for other salmon users.

For Tier 2 stocks the SAFE report identifies these as salmon stocks that would be managed as a stock complex, where specific tributaries or drainages serve as indicator stocks to estimate stock-specific harvest levels. However, the SAFE report did not recommend any stock or stock complex be designated as Tier 2, because there may be many tributaries for which spawning escapements are not assessed or are assessed with methods for which the total numbers of spawners cannot be estimated with high precision. Tier 2 may be used in future years as the Federal fishery develops and management is able to improve with additional years of data.

There are currently no reliable estimates of total number of spawners or total run size for the entire stocks and stock complexes in Tier 3; therefore, historical harvest data were used in determining the OFLs for Tier 3 stocks and stock complexes as described in the final 2024 SAFE report and Salmon FMP. The ABC for Tier 3 was reduced from the OFL by a scientifically-informed buffer, which is conservative due to the lack of reliable information for Tier 3 stocks. The buffers are discussed further in response to comment 2. The methodology of using historical harvest for data-limited stocks is consistent with the calculation of OFL for data-limited stocks managed under other FMPs (e.g., the FMPs for groundfish), as is the use of conservative buffers (e.g., up to 75% reduction from OFL in setting ABC) for the calculation of ABC (e.g., crab species managed under the FMP for Bering Sea/Aleutian Islands King and Tanner Crabs).

Comment 12: We urge NMFS to use the mid-range of escapement goals instead of the low-end and consider trends in weak stocks when setting their TAC.

Response: For Tier 1 stocks, NMFS had originally recommended using the lower bound of the escapement goal to calculate SDC and associated harvest specifications to the SSC at the February 2024 Council meeting. Under section 302(h)(B) of the Magnuson-Stevens Act, the SSC provides recommendations for ABC and OFL that prevent overfishing. The SSC reviewed all available information and instead recommended that SDC and harvest specifications for the 2024 fishing season be based on the number of spawners necessary to achieve maximum sustainable yield (SMSY). Using SMSY resulted in a lower (more conservative) ABC for Tier 1 stocks than if the lower bound of the escapement goals were used. NMFS then set the TACs below the ABCs recommended by the SSC.

For Tier 2 stocks that are managed as a stock complex, escapement is an index of spawners that may represent an unknown portion of the overall escapement. However, the SAFE report did not recommend any stock or stock complex be designated as Tier 2 (see response to comment 11). For Tier 3 stocks, escapement data is poor and NMFS currently cannot produce reliable estimates of abundance and instead relies of historical harvest rates when recommending the OFL. ABCs for Tier 3 stocks are reduced from OFL based on an appropriate buffer that accounts for scientific uncertainty. NMFS then set the TACs for Tier 3 stocks below the ABCs recommended by the SSC.

Escapement

Comment 13: The proposed TACs will continue the trend of gross over-escapements resulting in fewer fish returning in subsequent years, reduced future returns, wasted foregone yield that is a National food source, a waste of interstate commerce, and an economic disaster for fisherman and the communities.

Response: NMFS disagrees that escapements that exceed the current goals are certain or will necessarily lead to negative impacts on the ecosystem. The majority of Cook Inlet salmon harvests occur within State of Alaska waters and management. In establishing harvest specifications, NMFS considers the scientific and management uncertainty present, and the risk that the number of returning salmon will be lower than forecasted. Because salmon fishing in the Cook Inlet EEZ Area harvests target salmon runs before all other users in Cook Inlet, it is essential to ensure that enough salmon of all stocks can pass through the Cook Inlet EEZ Area to meet escapement goals, while also accounting for all subsequent mortality. Any salmon surplus to escapement goals may still be harvested in State of Alaska waters after moving through the Cook Inlet EEZ Area. Moreover, NMFS disagrees that escapement in excess of current goals will necessarily negatively impact future salmon abundance.

In appendix 14 of the Analysis, the Kenai and Kasilof sections of the 2024 SAFE report, and responses to comments in the amendment 16 final rule address the topic of whether sockeye salmon spawning escapements above the upper bound of the escapement goal (i.e., “over-escapements”) result in fewer returning adult fish in subsequent years (i.e., density dependent effects, otherwise known as overcompensation). Sockeye salmon spawning escapements above the upper bound of the spawning escapement goals were included in spawner-recruitment analyses in the Analysis and the SAFE. These larger spawning escapements have generally resulted in substantial yields of adult sockeye salmon in future years, and, therefore, do not suggest that “over-escapement” has resulted in density dependent effects. NMFS will continue to monitor spawner-recruitment trends and will adjust its status determination criteria and harvest specifications recommendations to the SSC if density dependent effects become evident.

National Standards

Comment 14: The proposed harvest specifications do not meet National Standard 1 requirements to manage the fishery based on maximum sustainable yield (MSY) or that optimum yield (OY) will be achieved on a continuous basis.

Response: NMFS disagrees. National Standard 1 states that conservation and management measures shall prevent overfishing while achieving, on a continuing basis, the OY from each fishery for the United States fishing industry. Under the National Standard 1 guidelines, OY is prescribed on the basis of MSY. NMFS defined both OY and MSY under amendment 16; neither are annual management targets and both definitions are outside the scope of these harvest specifications. However, these harvest specifications are consistent with National Standard 1 because they will prevent overfishing while remaining consistent with NMFS's obligation to achieve OY on a continuing basis over the long term. NMFS established these harvest specifications to prevent overfishing while considering all salmon stocks harvested, the limitations of weak stock management, scientific uncertainty, management uncertainty, and harvest in other salmon fisheries, as well as social, economic, and other ecological factors.

While the SSC's harvest level recommendations account for scientific uncertainty, they do not account for management uncertainty. NMFS must account for an additional layer of management uncertainty through a reduction in harvest between ABC and TAC, as required by National Standard 1 (50 CFR 600.310(f)(1)(v), (g)(4)). As a result of this combination of factors, NMFS appropriately set TAC amounts for each species.

Further, the summed TAC amounts across all species fall within the OY range established by amendment 16 and can be achieved by the management measures implemented by amendment 16. This action does not modify OY. To the extent this comment is asserting that MSY and OY are improperly established, that is outside of the scope of this action and is addressed in the amendment 16 final rule.

Comment 15: The harvest specifications do not comply with the decisions of the U.S. Court of Appeals for the Ninth Circuit and the U.S. District Court for the District of Alaska, the 10 National Standards of the Magnuson-Stevens Act, or other applicable laws.

Response: NMFS disagrees. NMFS developed amendment 16 to comply with the decisions of the Ninth Circuit Court of Appeals and the U.S. District Court for the District of Alaska, the Magnuson-Stevens Act, and other applicable Federal law. NMFS considered all Magnuson-Stevens Act requirements for FMPs and balanced the competing demands of the National Standards in section 301(a) of the Magnuson-Stevens Act when developing amendment 16. NMFS found amendment 16 to be consistent with all 10 National Standards, as detailed in section 5.1 of the Analysis and further addressed in responses to comments on the amendment 16 final rule under the National Standard headings.

The harvest specifications are required to implement amendment 16 and allow a fishery to open. NMFS cannot open a fishery without harvest specifications. NMFS has determined that the harvest specifications comply with the National Standards. These harvest specifications result in harvest limits that fall within the OY range established for the Cook Inlet EEZ Area, can be achieved, and are expected to prevent overfishing on all stocks. The response to comment 14 provides additional detail on consistency with National Standard 1.

Consistent with National Standard 2 and as described in section 1 of the 2024 SAFE, the data, estimates, and analyses used to conduct stock assessment analyses are based upon the best scientific information available, including a rigorous scientific stock assessment and review process. Furthermore, tier selection for all stocks, methods used to determine harvest specifications, MSY, OFL, and ABC were reviewed by the SSC and incorporated their recommendations on fishing levels. The response to comment 18 provides additional discussion of the scientific basis of these harvest specifications.

Consistent with National Standard 3, this action manages all salmon fishing in the Cook Inlet EEZ Area under NMFS's jurisdiction, while considering all other fishing and management, to ensure that no stocks are subject to overfishing or are overfished, and to achieve OY.

Consistent with National Standard 4, these harvest specifications do not discriminate between residents of different states. The specifications do not allocate or assign any fishing privileges among fishermen, as only one sector may commercially harvest salmon in the Cook Inlet EEZ Area. Regardless, these harvest specifications are fair and equitable to all fishery participants by maintaining historical harvest proportions and levels, are reasonably calculated to promote conservation by avoiding overfishing, and ensure that no entity acquires an excessive share of harvest privileges.

National Standard 5 states that conservation and management measures shall, where practicable, consider efficiency in the utilization of fishery resources; except that no such measure shall have economic allocation as its sole purpose. This action allows for efficient and historically-consistent commercial drift gillnet harvest of nearly all salmon stocks in the Cook Inlet EEZ Area, subject to the constraints of scientific/management uncertainty, weak stock management, allowing for escapement needs, and allowing for a harvestable surplus for other users.

Consistent with National Standard 6, these harvest specifications account for and allow for variations among, and contingencies in, fisheries, fishery resources, and catches and—as required by the National Standard 6 guidelines—provide “a suitable buffer in favor of conservation” in light of significant scientific and management uncertainties (see 50 CFR 600.335(c)).

These harvest specifications impose no costs and are not duplicative of any other management measures and are therefore consistent with National Standard 7.

Consistent with National Standard 8, these harvest specifications maintain historical access to the resource for all fishing communities in Cook Inlet, consistent with current conservation conditions. This includes maintaining conditions for fishing communities dependent on salmon fishing in the Cook Inlet EEZ Area as well as salmon fishing within State of Alaska waters.

Consistent with National Standard 9, this action minimizes bycatch and bycatch mortality by establishing salmon TACs that can be achieved without additional or different fishing effort that would increase bycatch.

Consistent with National Standard 10, this action promotes safety by establishing TACs that can be achieved during the summer period of relatively good weather.

Comment 16: The Ninth Circuit Court said to not use ADF&G's data to determine a TAC as it has parochial concerns. All of the years used for data to set the TACs were negatively affected by political management and should not legally be used for science.

Response: NMFS is not relying on ADF&G's data to determine TACs for any salmon stocks in the Cook Inlet EEZ Area, but rather is making determinations based on the best scientific data available as described in the SAFE report and the Analysis (see response to comment 15). The SAFE report generally uses catch and escapement data from 1999 to 2023 because the data from these years are representative of the current biological and environmental conditions affecting salmon productivity. Also, the data from these years are representative of how the salmon fisheries throughout Cook Inlet have developed and changed over time. This is also the period for which high quality and comparable data for all Cook Inlet salmon fisheries was available. The Analysis considers harvest and management data back to 1966. This is consistent with the SAFE report and harvest specification approach for all other federally-managed fisheries in the Alaska Region, which have changed over time in response to biological, environmental, social, and economic factors. In addition, the catch and escapement data used in the SAFE report and Analysis were peer reviewed and approved by the SSC, which agreed that the data constitutes the best scientific information available. Ultimately, data on past catch and escapement represents facts about the catch and escapement that occurred during those years. No political decisions are relevant to the reliability of data regarding total run sizes or escapement or other indices of abundance during the selected time series. Finally, the commenter identified no other sources of data that NMFS could have used.

Comment 17: This rule as presented simply adds to the long-term negative impact on the health of the Alaska Native communities around Cook Inlet.

Response: NMFS acknowledges the importance of salmon to Alaska Native communities and citizens in the Cook Inlet, and when there are declines in salmon abundance, it results in adverse impacts to Alaska Native communities and citizens. As described in the response to comment 7, these harvest specifications are expected to maintain salmon harvests in the Cook Inlet EEZ Area near recent historical levels. They are also expected to maintain existing salmon harvest opportunities in State of Alaska waters throughout Cook Inlet. To the extent this comment is referring to the impacts of amendment 16, these are addressed under the Tribal Summary Impact Statement and Tribal Comments headings of the amendment 16 final rule. For discussion of the potential economic impacts on communities from this action, see sections 4.7.1.3 to 4.7.1.4 and section 4.6.4 of the Analysis.

Comment 18: NMFS proposes that it applies the best scientific information available, the unfortunate fact is that there is very limited science available. ADF&G tracks what is caught in Cook Inlet, but there has been no effort to track what is caught specifically in Federal EEZ waters, or when, or how many vessels and permits have been applied to the catch effort. The proposed harvest specifications are not based on the best scientific information or in fact any scientific information or data.

Response: NMFS used the best scientific information available to inform estimates of previous harvests within the Cook Inlet EEZ Area, which includes comprehensive fish ticket data including locale codes. It is always possible to develop better information, but NMFS must make management decisions based on the best scientific information available rather than the best scientific information possible. The National Standard 2 guideline instructs NMFS to account for the risks associated with scientific uncertainty and data gaps—which it did here—and acknowledges simpler methodologies or greater proxies may be needed for data-poor fisheries (50 CFR 600.315(a)(2)-(3)). Previously, data regarding harvests, landings, and statistical areas in Upper Cook Inlet were not required to and did not differentiate between State of Alaska and Federal waters. Therefore, NMFS had to develop a methodology to estimate historical salmon harvest in the Cook Inlet EEZ Area. The methodology used to develop harvest estimates for the Cook Inlet EEZ Area is presented in section 4.5.1.2.3 of the Analysis, along with a description of the associated uncertainties. This method and the results were peer reviewed and approved by the SSC, which agreed that the Analysis and harvest specification process rely on the best scientific information available. NMFS received no comments providing additional data to estimate EEZ harvest and no suggested alternate methodologies. NMFS cannot arbitrarily increase the attribution of historical harvest to the EEZ in the absence of any supporting data. Therefore, NMFS determined that the estimates presented in the Analysis constitute the best scientific information available. See the response to comment 15 for additional discussion on National Standard 2.

The 2024 SAFE report describes the State of Alaska's stock definitions, including the data, estimates, and analyses used to conduct stock assessments are: (1) accurate, thorough, and complete (including documenting when escapement estimates were partial or missing due to various circumstances); and (2) based upon the best scientific information available, including a rigorous scientific stock assessment and review process. The 2024 SAFE report also describes that, given the stock assessment results, the resulting escapement targets represent ranges that are likely to result in sustainable returns for all stocks, and maximum yield (at the stock level) for those stocks with available spawner-recruitment information. The equations used to propose SDC and harvest specifications for the 2024 SAFE report include escapement targets and—for Tier 1 stocks—associated point estimates of the number of spawners likely to result in the MSY. These equations are consistent with National Standard 1 and 2 guidelines. The Federal stock definitions in the 2024 SAFE report are based on several considerations, including: (1) the availability and specificity of preseason forecasts; (2) the practical limitations, including current genetics limitations, of monitoring and accounting for the harvest of specific stocks of the same species in a mixed-stock fishery; (3) the relative quality of the historical harvest records estimated to have occurred in the Cook Inlet EEZ Area during previous years; and (4) other considerations. Data collected by NMFS during the 2024 and future fishing years are expected to improve the scientific information available for management of Cook Inlet salmon stocks. NMFS will collect the landings information needed to directly and precisely determine EEZ harvests. NMFS will review the information available to manage Cook Inlet salmon stocks each year, including any data gaps and uncertainties. As data are collected on harvest that occurs solely within the Cook Inlet EEZ Area, NMFS will include that information in its ongoing assessment of what constitutes best available science for future management decisions.

Comment 19: In its 2024 SAFE report, NMFS fails to mention OY even once, demonstrating that the chosen OY metric is not even scientifically significant when discussing yield and harvest specifications. Rather than discussing the chosen metric of OY, NMFS uses the term “potential yield,” which appears closer to an actual Magnuson-Stevens Act compliant definition of optimum yield for the “fishery.” NMFS's SAFE also clearly demonstrates the wasted yield that could be potential yield in the EEZ. The SAFE appendix A1.1 shows the potential yield—after escapement, State of Alaska waters catch, and EEZ catch—in the EEZ for the last two decades.

Response: This action does not modify OY. To the extent this comment is asserting that MSY and OY are improperly established, that is outside of the scope of this action and addressed in the amendment 16 final rule.

OY is not an annual management target that is addressed in a SAFE report, but rather is a long-term objective (50 CFR 600.310(e)(3)(ii)). Consistent with SAFE reports for all other federally-managed fish and shellfish stocks in the North Pacific, there is limited or no discussion of OY in the Cook Inlet salmon SAFE report. SAFE reports summarize the best scientific information available concerning the past, present, and possible future condition of the stocks, marine ecosystems, and fisheries that are managed under Federal regulation. It provides information to the Council and NMFS for recommending and implementing, respectively, annual harvest levels from each stock, documenting significant trends or changes in the resource, marine ecosystems, and fishery over time, and assessing the relative success of existing State of Alaska and Federal fishery management programs. A SAFE report can provide important information to NMFS or a Council in determining whether the management regime can achieve OY as defined in an FMP, or whether changes to management measures or the OY may be warranted, consistent with the National Standard 1 guidelines. Under the Magnuson-Stevens Act and based on the best available scientific information, NMFS and the Council can revise as appropriate an OY, but such changes are outside the scope of these harvest specifications.

For 2024, the sum of the final TAC amounts across all species, under these final harvest specifications, fall within the OY range established by amendment 16, and can be achieved by the management measures implemented by amendment 16. However, as stated above, OY remains a long-term objective, but is not an annual requirement (50 CFR 600.310(e)(3)(ii)).

Changes From Proposed to Final Rule

NMFS undertook a thorough review of the relevant comments received during the public comment period. However, for reasons described in the preceding section, NMFS made no changes to the proposed rule.

Classification

NMFS is issuing this final rule pursuant to section 305(d) of the Magnuson-Stevens Act. The NMFS Assistant Administrator has determined that this final rule is consistent with the Magnuson-Stevens Act, the Salmon FMP, and other applicable laws.

This action is exempt from review under Executive Order 12866 because it only implements annual catch limits for the Cook Inlet EEZ Area salmon fishery.

NMFS prepared an EA for amendment 16 to the Salmon FMP, which included analysis of the Cook Inlet EEZ Area salmon harvest specifications process and expected harvest levels (see ADDRESSES) and made it available to the public (see the amendment 16 final rule at 89 FR 34718, April 30, 2024; see also the proposed rule at 88 FR 72314, October 19, 2023). The final EA analyzes the environmental, social, and economic consequences of the amendment 16, including the salmon harvest specifications, on resources in the action area. In the final rule implementing amendment 16, NMFS considered and addressed the public comments received during the comment period for the amendment 16 proposed rule, as is consistent with the Magnuson-Stevens Act, the Salmon FMP, and other applicable law, and a final EA and finding of no significant impact, as is consistent with the National Environmental Policy Act and implementing regulations, prior to the publication of the final harvest specifications.

Directed Fishing Closures and Inseason Adjustments

In accordance with 50 CFR 679.118(c)(1)(i), NMFS will prohibit fishing for salmon in the Cook Inlet EEZ Area if NMFS determines that any salmon TAC has been or may be reached for any salmon species or stock. NMFS may also make adjustments to a TAC for any salmon species or stock, or open or close a season, in the Cook Inlet EEZ Area, if necessary to prevent underharvest of a TAC or to prevent overfishing, consistent with § 679.25. Changes to the salmon fisheries in the Cook Inlet EEZ Area will be posted at the following website under the Alaska filter for Management Areas: https://www.fisheries.noaa.gov/rules-and-announcements/bulletins.

Final Regulatory Flexibility Analysis

A final regulatory flexibility analysis (FRFA) was prepared for this action. Section 604 of the Regulatory Flexibility Act (RFA) (5 U.S.C. 604) requires that, when an agency promulgates a final rule under 5 U.S.C. 553, after being required by that section or any other law, to publish a general notice of proposed rulemaking, the agency shall prepare a FRFA. The following constitutes the FRFA prepared for these final 2024 harvest specifications.

Section 604 of the RFA describes the required contents of a FRFA: (1) a statement of the need for, and objectives of, the rule; (2) a statement of the significant issues raised by the public comments in response to the initial regulatory flexibility analysis, a statement of the assessment of the agency of such issues, and a statement of any changes made in the proposed rule as a result of such comments; (3) the response of the agency to any comments filed by the Chief Counsel for Advocacy of the Small Business Administration in response to the proposed rule, and a detailed statement of any change made to the proposed rule in the final rule as a result of the comments; (4) a description of and an estimate of the number of small entities to which the rule will apply or an explanation of why no such estimate is available; (5) a description of the projected reporting, recordkeeping, and other compliance requirements of the rule, including an estimate of the classes of small entities which will be subject to the requirement and the type of professional skills necessary for preparation of the report or record; and (6) a description of the steps the agency has taken to minimize the significant economic impact on small entities consistent with the stated objectives of applicable statutes, including a statement of the factual, policy, and legal reasons for selecting the alternative adopted in the final rule and why each one of the other significant alternatives to the rule considered by the agency that affect the impact on small entities was rejected.

A description of this action, its purpose, and its legal basis are included at the beginning of the preamble in the Background section to this final rule and are not repeated here.

NMFS published the proposed rule on April 12, 2024 (89 FR 25857). NMFS prepared an Initial Regulatory Flexibility Analysis (IRFA) to accompany the proposed action, and included the IRFA in the proposed rule. The comment period closed on May 13, 2024. No comments were received on the IRFA or on the economic impacts of the rule on a general level.

The Chief Counsel for Advocacy of the Small Business Administration did not file any comments on the proposed rule.

For RFA purposes only, NMFS has established a small business size standard for businesses, including their affiliates, whose primary industry is commercial fishing (see 50 CFR 200.2). A business primarily engaged in commercial fishing (North American Industry Classification System (NAICS) code 11411) is classified as a small business if it is independently owned and operated, is not dominant in its field of operation (including its affiliates) and has combined annual gross receipts not in excess of 11 million dollars for all its affiliated operations worldwide. In addition, the Small Business Administration has established a small business size standard applicable to charter fishing vessels (NAICS code 713990) of 9 million dollars.

This final rule directly regulates commercial salmon fishing vessels that operate in the Cook Inlet EEZ Area, and charter guides and charter businesses fishing for salmon in the Cook Inlet EEZ Area. Because NMFS expects the State of Alaska to maintain current requirements for commercial salmon fishing vessels landing any salmon in upper Cook Inlet to hold a CFEC S03H permit, NMFS does not expect participation from non-S03H permit holders in the federally-managed salmon fishery in the Cook Inlet EEZ Area. Therefore, the number of S03H permit holders represents the maximum number of directly regulated entities for the commercial salmon fishery in the Cook Inlet EEZ Area. From 2018 to 2022, there was an average of 567 S03H permits in circulation, with an average of 325 active permit holders, all of which are considered small entities based on the 11 million dollar threshold. The evaluation of the number of directly regulated small entities and their revenue was conducted via custom query by staff of the Alaska Fish Information Network utilizing both ADF&G and Fish Ticket revenue data and the CFEC permits database. Similarly, the Analysis prepared for amendment 16 provides the most recent tabulation of commercial charter vessels that could potentially fish for salmon within the Cook Inlet EEZ Area (see ADDRESSES).

The commercial fishing entities directly regulated by the salmon harvest specifications are the entities operating vessels with Salmon Federal fisheries permits (SFFPs) catching salmon in Federal waters. For purposes of this analysis, NMFS assumes that the number of small entities with SFFPs that are directly regulated by the salmon harvest specifications is the average number of S03H permits in circulation (i.e., 567 permits). This may be an overstatement of the number of directly-regulated small entities since some entities may hold more than one permit.

The commercial charter fishing entities directly regulated by the salmon harvest specifications are the entities that hold commercial charter licenses and that choose to fish for salmon in the Cook Inlet EEZ Area where these harvest specifications will apply. Salmon charter operators are required to register with the State of Alaska annually and the numbers of registered charter operators in the Cook Inlet area varies. Available data indicates that, from 2015 to present, the total number of directly regulated charter vessel small entities that have participated in the Cook Inlet EEZ Area has been as high as 91. However, from 2019 to 2021, there was an average of 58 charter guides that fished for salmon at least once in the Cook Inlet EEZ Area. All of these entities, if they choose to fish in the Cook Inlet EEZ Area, are directly regulated by this action and all are considered small entities based on the 9 million dollar threshold.

This action does not modify recordkeeping or reporting requirements or duplicate, overlap, or conflict with any Federal rules.

This proposed rule contains no information collection requirements under the Paperwork Reduction Act of 1995.

The action under consideration is the final 2024 harvest specifications for the Cook Inlet EEZ Area salmon fishery. The TAC is set to reduce the risk of overfishing without the benefit of inseason harvest data but remains commensurate with or slightly above the recent 10-year average estimated EEZ harvest.

This action is necessary to establish harvest limits for Cook Inlet salmon harvested within the EEZ during the 2024 fishing years and is taken in accordance with the Salmon FMP pursuant to the Magnuson-Stevens Act. The establishment of the harvest specifications is governed by the process for determining harvest levels for salmon in the Cook Inlet EEZ Area in the FMP. Under this process, harvest specifications typically will be made annually for specifying the OFL, ABC, and TAC. This includes identifying the stocks and stock complexes for which specifications are made. Salmon stocks or stock complexes may be split or combined for purposes of establishing a new harvest specification unit if such action is desirable based on the commercial importance of a stock or stock complex, or if sufficient biological information is available to manage a stock or stock complex as a single unit. Those stocks and stock complexes also will be separated into three tiers based on the level of information available for each stock and stock complex, and the corresponding tier is used to calculating OFL and ABC.

For each stock and stock complex, NMFS will establish harvest specifications prior to the commercial salmon fishing season. To inform the harvest specifications, NMFS will prepare the annual SAFE report, based on the best available scientific information at the time it is prepared, for review by the SSC, AP, and the Council. The SAFE report will provide information needed for: (1) determining annual harvest specifications; (2) documenting significant trends or changes in the stocks, marine ecosystem, and fisheries over time; and (3) assessing the performance of existing State of Alaska and Federal fishery management programs. The SAFE report will provide a summary of the most recent biological condition of the salmon stocks, including all reference points, and the social and economic condition of the fishing and processing industries.

For the 2024 salmon specifications, NMFS prepared the draft SAFE and consulted with the Council consistent with amendment 16 and the implementing regulations. The final TACs are based on the SAFE report, which represents the best scientific information currently available for the stock and stock complexes identified by NMFS. The SSC reviewed the stock structure and associated tiers for each stock and stock complex. In February 2024, NMFS consulted with the Council, but the Council ultimately did not recommend any harvest specifications. However, the SSC recommended OFLs and ABCs. NMFS is publishing the OFLs, ABCs, and TACs as informed by the recommendations of the SSC and the consultation with the Council. The TACs are therefore consistent with the process for determining harvest levels for salmon in the Cook Inlet EEZ Area under amendment 16 and the supporting Analysis.

The OFLs and ABCs are based on recommendations prepared by NMFS in January 2024 and were reviewed by the Council's SSC in February 2024. The 2024 OFLs and ABCs are based on the best available science and revised analyses to calculate stock abundance. The 2024 OFLs, ABCs, and TACs are consistent with the biological condition of the salmon stocks as described in the 2024 SAFE report, which is the most recent SAFE report.

Under this action, the ABCs reflect harvest amounts that are less than the specified OFLs. The TACs set by NMFS do not exceed the biological limits (i.e., the ABCs and OFLs) recommended by the SSC. The TACs are adjusted to account for other social and economic considerations consistent with Salmon FMP goals for the Cook Inlet EEZ Area and implementing regulations that annual TAC determinations would be made based on social and economic considerations, including the need to promote efficiency in the utilization of fishery resources (e.g., minimizing costs; the desire to conserve, protect, and rebuild depleted salmon stocks; the importance of a salmon fishery to harvesters, processors, local communities, and other salmon users in Cook Inlet; and the need to promote utilization of certain species) (see 50 CFR 679.118(a)(2)(ii)). The TACs are less than the ABCs to more comprehensively address management uncertainty and associated conservation concerns, as well as social, economic, and ecological considerations.

This action is economically beneficial to entities operating in the Cook Inlet EEZ Area salmon fishery, including small entities. The action adopts TACs for commercially-valuable salmon and salmon stocks and would allow for the prosecution of the salmon fishery in the Cook Inlet EEZ Area, thereby creating the opportunity for fishery revenue. The TACs set by NMFS for each commercially-valuable salmon stock or stock complex, except for aggregate coho, are higher than the recent ten-year average catch estimated to have been harvested in the Cook Inlet EEZ Area, which may help to reduce foregone yield and allow for additional harvest opportunity. For each salmon species for which NMFS establishes harvest specifications, NMFS determined the final TACs will provide harvest opportunities for entities operating in the Cook Inlet EEZ Area, including small entities. These TACs cannot be set higher because the biological condition of each species does not support a higher TAC. For these reasons, there are no alternative TACs that would reduce impacts to small entities.

In sum, based upon the best scientific information available and in consideration of the objectives for this final action, it appears that there are no significant alternatives to this final rule for salmon harvest specifications that have the potential to comply with applicable court rulings, accomplish the stated objectives of the Magnuson-Stevens Act or any other statutes, and minimize any significant adverse economic impact of the action on small entities while preventing overfishing. After public process during which the Council and NMFS solicited input from stakeholders and after consultation with the Council, NMFS sets TACs that NMFS has determined would best accomplish the stated objectives articulated in the preamble for this final rule, and in applicable statutes, and would minimize to the extent practicable adverse economic impacts on the universe of directly regulated small entities.

Pursuant to 5 U.S.C. 553(d)(3), the Assistant Administrator for Fisheries, NOAA, finds good cause to waive the 30-day delay in the date of effectiveness for this rule because delaying this rule is contrary to the public interest. The Assistant Administrator for Fisheries finds that the need to establish final total allowable catch amounts in the Cook Inlet EEZ Area makes it contrary to the public interest to delay the effective date of the final harvest specifications for 30 days. If the final harvest specifications are not effective by the start of the Cook Inlet EEZ Area salmon fishery as required by 50 CFR 679.118(e), the Cook Inlet EEZ Area salmon fishery will not be able to operate under Federal management as required by court order. Immediate effectiveness of the final 2024 harvest specifications will allow the Federal fishery to start on June 20, 2024, thus preventing confusion between management by the State of Alaska and Federal governments. In addition, immediate effectiveness of this action is required to provide consistent management and conservation of fishery resources based on the best available scientific information, and to give the fishing industry the earliest possible opportunity to plan its fishing operations. These final harvest specifications, as well as the earlier proposed harvest specifications, were developed as quickly as possible. The SSC provided peer review of the SAFE report at the February 2024 Council meeting, the earliest meeting at which that scientific information was available. Relying on SSC advice, NMFS revised the SAFE report and drafted proposed harvest specifications, which it published on April 12, 2024. NMFS then offered a 30-day public comment period on the proposed harvest specifications, which closed on May 13, 2024. After the close of the comment period, NMFS developed the final harvest specifications as quickly as possible, responding to all comments, to ensure the specifications could be implemented by the June 20, 2024 opening date for the Cook Inlet EEZ Area commercial fishery.

Small Entity Compliance Guide

Section 212 of the Small Business Regulatory Enforcement Fairness Act of 1996 states that, for each rule or group of related rules for which an agency is required to prepare a FRFA, the agency shall publish one or more guides to assist small entities in complying with the rule, and shall designate such publications as “small entity compliance guides.” The table contained in this final rule is provided online and serves as the plain language guide to assist small entities in complying with this final rule as required by the Small Business Regulatory Enforcement Fairness Act of 1996. This final rule's primary purpose is to announce the final 2024 harvest specifications for the salmon fishery of the Cook Inlet EEZ Area. This action is necessary to establish harvest limits and associated management measures for salmon during the 2024 fishing year, and to accomplish the goals and objectives of the Salmon FMP. This action affects all fishermen who participate in the Cook Inlet salmon fishery. The specific OFLs, ABCs, and TACs, are provided in table 1 in this final rule to assist the reader. This final rule also contains plain language summaries of the underlying relevant regulations supporting the harvest specifications and the harvest of salmon in the Cook Inlet area that the reader may find helpful.

Information to assist small entities in complying with this final rule is provided online. The OFL, ABC, and TAC table is individually available online at https://www.fisheries.noaa.gov/alaska/commercial-fishing/cook-inlet-salmon-harvest-specifications. Harvest specification changes are also available from the same online source, which includes applicable Federal Register notices, information bulletins, and other supporting materials. NMFS will announce other closures or openings of directed fishing in the Federal Register and information bulletins released by the Alaska Region. Affected fishermen should keep themselves informed of such actions.

Authority: 16 U.S.C. 773 et seq.; 16 U.S.C. 1540(f); 16 U.S.C. 1801 et seq.; 16 U.S.C. 3631 et seq.; Pub. L. 105-277; Pub. L. 106-31; Pub. L. 106-554; Pub. L. 108-199; Pub. L. 108-447; Pub. L. 109-241; Pub. L. 109-479.

Dated: June 12, 2024.
Samuel D. Rauch III,
Deputy Assistant Administrator for Regulatory Programs, National Marine Fisheries Service.

[FR Doc. 2024-13357 Filed 6-17-24; 8:45 am]

BILLING CODE 3510-22-P